DEPARTMENT OF COMMERCE

International Trade Administration

North American Free-Trade Agreement (NAFTA), Article 1904 NAFTA Panel Reviews; Decision of the Panel

AGENCY: NAFTA Secretariat, U.S. Section, International Trade Administration, Department of Commerce.

ACTION: Notice of decision of NAFTA panel.

SUMMARY: On April 28, 2003 the NAFTA Panel issued its decision on the re-determination on remand in the matter of Pure Magnesium from Canada, Secretariat File No. USA-CDA-00-1904-06.

FOR FURTHER INFORMATION CONTACT: Caratina L. Alston, U.S. Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686). The panel review in this matter was conducted in accordance with these Rules.

Background Information: On October 15, 2002, the Panel issued a remand decision in the matter of Pure Magnesium from Canada, with instructions to the Department of Commerce to issue a determination on remand consistent with the instructions set forth in the Panel's decision. The Panel instructed the DOC to provide a report within 45 days detailing how it would comply with their instructions and to complete the remand (within 60 days) not later than January 28, 2003.

The Department of Commerce issued its remand determination on January 28, 2003.

Panel Decision: The Panel, in its decision of April 28, 2003, ordered the Department to revoke the antidumping order.

Dated: May 8, 2003.
Caratina L. Alston,
U.S. Secretary, NAFTA Secretariat.

[FR Doc. 03-12883 Filed 5-21-03; 8:45 am]

BILLING CODE 3510-GT-M